COMMISSION ON CIVIL RIGHTS

Sunshine Act Meeting

Agency: U.S. Commission on Civil Rights.

Date and Time: Friday, October 7, 2005, 9:30 a.m.

Place: Rayburn House Office Building, Room 2226, Washington, DC 20515.

Agenda

I. Approval of Agenda

II. Approval of Minutes of September 16, 2005 Meeting

III. Announcements

IV. Commission Briefing: The Voting Rights Act

• Introductory Remarks by Chairman

• Speakers' Presentations

• Questions by Commissioners and Staff Director

V. Staff Director's Report

VI. State Advisory Committee Issues

• Working Group on SAC Reform

• Elementary and Secondary School Desegregation Project

VII. Management and Operations

• Commission Meeting Dates for Calendar Year 2006

• Report on John G. Roberts, Jr., Civil Rights Record

• September 15th Report to Congress on Commission Reforms

VIII. Future Agenda Items

Contact Person for Further Information: Terri Dickerson, Press and Communications (202) 376-8582.

Christopher Byrnes,
Acting Deputy General Counsel.

[FR Doc. 05-19656 Filed 9-27-05; 4:30 pm]

BILLING CODE 6335-01-M